DEPARTMENT OF THE INTERIOR

Bureau of Land Management

[LLNV930000. L11100000.DS0000. LXSISGST0000.13X; 13-08807; MO# 4500055596]

Notice of Availability of the Nevada and Northeastern California Greater Sage-Grouse Draft Land Use Plan Amendments and Draft Environmental Impact Statement

AGENCY: Bureau of Land Management, Interior.

ACTION: Notice of availability.

SUMMARY: In accordance with the National Environmental Policy Act of 1969, as amended (NEPA), and the Federal Land Policy and Management Act of 1976, as amended, the Bureau of Land Management (BLM) and U.S. Forest Service (USFS) have prepared a Nevada and Northeastern California Sub-region Greater Sage-Grouse Draft Land Use Plan (LUP) Amendments and Draft Environmental Impact Statement (EIS) and by this notice is announcing the opening of the comment period.

DATES: To ensure that comments will be considered, the BLM and USFS must receive written comments on the Draft LUP Amendments/Draft EIS within 90 days following the date the Environmental Protection Agency publishes its notice of the Draft LUP Amendments/Draft EIS in the Federal Register. The BLM and USFS will announce future workshops and any other public participation activities at least 15 days in advance through public notices, media releases, and/or mailings.

ADDRESSES: You may submit written comments related to the Nevada and Northeastern California Sub-region Greater Sage-Grouse Draft LUP Amendments/Draft EIS by any of the following methods:

• Web site: http://on.doi.gov/14ZD3Rb.

• Email: blm_nv_ca_sagegrouse_eis_comments@blm.gov.

• Mail: BLM—Greater Sage Grouse EIS, Attn: Joe Tague, 1340 Financial Blvd. Reno, NV 89502.

Copies of the Nevada and Northeastern California Sub-region Greater Sage-Grouse Draft LUP Amendments/Draft EIS are available on the Web at: http://www.blm.gov/nv/st/en/prog/wildlife/greater_sage-grouse.html. Copies are also available at BLM and USFS offices throughout the subregion. For a list of these offices, please see SUPPLEMENTARY INFORMATION below.

FOR FURTHER INFORMATION CONTACT: Joe Tague, Project Manager, telephone 775-861-6712; email jtague@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Nevada and Northeastern California Sub-region Greater Sage-Grouse Draft LUP Amendments and Draft EIS addresses a range of alternatives focused on specific conservation measures across the range of the Greater Sage-Grouse (GRSG) in the sub-region. This Draft LUP Amendments/Draft EIS is one of 15 separate planning efforts that are being undertaken as part of the BLM's and USFS's National Greater Sage-Grouse Planning Strategy. The Draft LUP Amendments/Draft EIS proposes to amend the following Resource Management Plans (RMP)/Land Resource Management Plans (LRMP):

• Alturas RMP (2008)

• Eagle Lake RMP (2008)

• Surprise RMP (2008)

• Black Rock Desert-High Rock Canyon Emigrant Trails National Conservation Area RMP (2004)

• Carson City Consolidated RMP (2001)

• Elko RMP (1987)

• Ely RMP (2008)

• Shoshone-Eureka RMP (1986)

• Tonopah RMP (1997)

• Wells RMP (1985)

• Winnemucca RMP (revision in progress)

• Humboldt National Forest LRMP (1986)

• Toiyabe National Forest LRMP (1986)

The planning area covers all or portions of 16 counties in Nevada and portions of 7 counties in northeastern California. Lands within the planning area include a mix of private, Federal and State lands. The decision area includes approximately 17 million acres of GRSG habitat administered by the BLM or USFS. The LUP amendments will be limited to making land use planning decisions specific to the conservation of Greater Sage-Grouse and their habitat. Through this land use planning process, the BLM and USFS will identify Greater Sage-Grouse preliminary priority management areas (PPMAs) and preliminary general management areas (PGMAs).

PPMAs are BLM-administered public lands or National Forest System lands identified as having the highest value to maintaining sustainable Greater Sage-Grouse populations. PGMAs are BLM-administered public lands or National Forest System lands that are not as biologically important as PPMAs. In addition to considering which lands will be managed as PPMAs and PGMAs, each alternative considers a unique set of objectives and management actions.

The formal public scoping process for the LUP Amendments/EIS began on December 9, 2011, with the publication of a Notice of Intent in the Federal Register (76 FR 77008), and ended on March 23, 2012. The BLM and USFS held seven scoping open houses in January 2012. The agencies used public scoping comments to help identify planning issues that directed the formulation of alternatives and framed the scope of analysis in the Draft LUP Amendments/Draft EIS.

Major issues considered in the Draft LUP Amendments/Draft EIS include special status species management (GRSG specifically), fire and invasive species, energy development, lands and realty (including transmission), and livestock grazing.

The Draft LUP Amendments/Draft EIS evaluates six alternatives in detail, including the No Action Alternative (Alternative A), and five action alternatives (Alternatives B, C, D, E and F). The BLM and the USFS identified Alternative D as the preferred alternative. Identification of this alternative, however, does not represent final agency direction, and the Proposed LUP Amendments/Final EIS may reflect changes or adjustments based on information received during public comment, from new information, or from changes in BLM or USFS policies or priorities. The Proposed LUP/Final EIS may include objectives and actions described in the other analyzed alternatives or otherwise within the spectrum of the analyzed alternatives.

Alternative A (No Action) continues current management direction under existing planning documents for all 11 field offices involved in the planning effort, plus the Humboldt and Toiyabe National Forests.

Alternative B analyzes management actions outlined in the National Technical Team's (NTT) Report. Conservation measures under Alternative B are focused primarily on priority habitat areas that have the highest conservation value to maintaining or increasing GRSG populations. These conservation measures include such protections as right-of-way (ROW) exclusions and a fluid mineral leasing closure.

Alternative C reduces or eliminates many of the uses on public lands, including livestock grazing. The alternative provides for a series of Areas of Critical Environmental Concern (ACECs) throughout the planning area for conservation of the Greater Sage-Grouse.

Alternative D, the Sub-regional alternative, incorporates local adjustments to the NTT Report which were developed with cooperating agencies. The purpose is to provide a balanced level of protection, restoration, enhancement and use of resources and services to meet ongoing programs and land uses. Conservation measures under Alternative D are focused on both Preliminary Priority Habitat (PPH) and Preliminary General Habitat (PGH) areas.

Alternative E (Nevada Governor's alternative) analyzes State-proposed conservation strategies. As part of their alternative submission, States provided the BLM with geographic information system data depicting their preferred PPH and PGH areas, conservation measures that should be applied to these areas, and rationale as to why their measures deviate from those outlined in the NTT Report.

Alternative F emphasizes the conservation actions that reduce many current land uses, such as mineral development, ROWs and other uses. The alternative provides for a series of ACECs throughout the planning area for conservation of the Greater Sage-Grouse.

Pursuant to 43 CFR 1610.7-2(b), this notice announces a concurrent public comment period on proposed ACECs. There are 32 ACECs proposed in Alternative C and 9 ACECs in Alternative F totaling approximately 13.6 million acres.

The GRSG habitat ACECs in Alternative C include: Black Rock, Buffalo/Skedaddle, Butte/Buck/White Pine, Clan Alpine, Cortez; Desatoya, Desert, East Valley, Fish Creek, Gollaher, Islands, Lincoln, Lone Willow, Massacre, Monitor, North Fork, O'Neil Basin, Pine Forest, Reese River, Ruby Valley, Santa Rosa, Schell/Antelope, Shoshone, Snake, South Fork, Spring/Snake Valley, Steptoe/Cave, Three Bar, Toiyabe, Tuscarora, Virginia and Vya, totaling approximately 12.2 million acres. The following management prescriptions would apply to these areas: Close to livestock grazing during lek, nesting and winter periods; prohibit industrial wind and wind farm construction in the ACEC or within 5-10 miles of the boundary; prohibit industrial solar projects within ACECs; recommend a mineral withdrawl from Preliminary Priority Sage-Grouse Management Areas (PPMA) and targeted restoration habitat; require features to enhance GRSG habitat security in existing ROW corridors and create avoidance areas for new ROWs and communication and other towers; protect Native American traditional and cultural sites and uses; retain all public lands in ACECs in Federal ownership; prioritize acquisition of private lands in ACECs over easements; minimize herbicide use; close ACECs to oil, gas and geothermal leasing; allow locatable and nonlocatable mineral development in nonhabitat areas; prohibit use of helicopters within the ACEC to manage wild horse populations.

The GRSG ACECs in Alternative F include: Bates Mountain, Cortez range, Fish Creek Mountains, Little Fish Lake Valley, Monitor, Monitor Valley, Reese River, Roberts Mountain and Telegraph Mountain, totaling approximately 1.4 million acres. The following management prescriptions would apply to these areas: Close the areas to cross country vehicle travel; limit motorized and mechanized travel to designated routes and prohibit new routes within 4 miles of leks or within PPMAs; seasonally prohibit camping and nonmotorized recreation within 4 miles of active leks; allow only Special Recreation Permits that have demonstrated beneficial or neutral effects on PPMAs; include exclusion areas for new ROWs in PPMAs; include avoidance areas for new ROWs in PPMA and Preliminary General Management Areas (PGMA); retain PPMAs in the ACECs in Federal ownership; prioritize acquisition of private lands in ACECs over easements; allow for vegetative management to be consistent with composition and structure in achieving habitat objectives; allow for seasonal and timing restrictions in livetock grazing within ACECs; permanently retire grazing permits as opportunitiy arises; manage riparian areas and wetlands to meet proper functioning condition and maintain a component of perennial forbes with diverse species richness and productivity relative to site potential; prohibit new water developments for diversion from springs or seeps within PPMA and PGMAs; close to oil, gas, geothermal leasing within PPMA and within 4 miles of active leks; allow geophysical exploration outside PPMAs using helicopter-portable drilling methods only and in accordance with seasonal timing and other restrictions; not use Catergorical Exclusion to resolve Section 390 resource conflicts in PPMAs and design and implement fuels treatments with emphasis on protecting existing sagebrush ecosystem.

Copies of the Nevada and Northeastern California Sub-region Greater Sage-Grouse Draft LUP Amendments/Draft EIS are available at the following BLM and USFS offices throughout the subregion:

Nevada

• BLM State Office, 1340 Financial Blvd., Reno

• BLM Winnemucca District Office, 5100 E. Winnemucca Blvd., Winnemucca

• BLM Ely District Office, 702 North Industrial Way, HC 33 Box 33500, Ely

• BLM Elko District Office, 3900 E. Idaho Street, Elko

• BLM Carson City District Office, 5665 Morgan Mill Road, Carson City

• Battle Mountain District Office, 50 Bastian Road, Battle Mountain

• Humboldt-Toiyabe National Forest, 1200 Franklin Way, Sparks

California

• BLM State Office, 2800 Cottage Way, Suite W-1623, Sacramento

• Alturas Field Office, 708 W. 12th Street, Alturas

• Eagle Lake Field Office, 2950 Riverside Drive, Susanville

• Surprise Field Office, 602 Cressler Street, Cedarville

Please note that public comments and information submitted, including names, street addresses and email addresses of persons who submit comments, will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Amy Lueders,
BLM Nevada State Director.

[FR Doc. 2013-26261 Filed 10-31-13; 8:45 am]

BILLING CODE 4310-HC-P